DEPARTMENT OF COMMERCE

Foreign-Trade Zones Board

[S-165-2014)

Approval of Expansion of Subzone 57C; DNP Imagingcomm America Corporation; Concord, North Carolina

On December 10, 2014, the Executive Secretary of the Foreign-Trade Zones (FTZ) Board docketed an application submitted by the Charlotte Regional Partnership, Inc., grantee of FTZ 57, requesting the expansion of Subzone 57C subject to the existing activation limit of FTZ 57, on behalf of DNP Imagingcomm America Corporation in Concord, North Carolina.

The application was processed in accordance with the FTZ Act and Regulations, including notice in the Federal Register inviting public comment (79 FR 75125, 12-10-2014). The FTZ staff examiner reviewed the application and determined that it meets the criteria for approval.

Pursuant to the authority delegated to the FTZ Board's Executive Secretary (15 CFR 400.36(f)), the application to expand Subzone 57C is approved, subject to the FTZ Act and the Board's regulations, including section 400.13, and further subject to FTZ 57's 2,000-acre activation limit.

Dated: March 9, 2015.
Andrew McGilvray,
Executive Secretary.

[FR Doc. 2015-05833 Filed 3-12-15; 8:45 am]

BILLING CODE 3510-DS-P